DEPARTMENT OF ENERGY

Environmental Management Site-Specific Advisory Board, Oak Ridge

AGENCY: Office of Environmental Management, Department of Energy.

ACTION: Notice of open in-person/virtual hybrid meeting.

SUMMARY: This notice announces an in-person/virtual hybrid meeting of the Environmental Management Site-Specific Advisory Board (EM SSAB), Oak Ridge. The Federal Advisory Committee Act requires that public notice of this meeting be announced in the Federal Register.

DATES: Wednesday, October 12, 2022 6:00 p.m.-8:00 p.m.

ADDRESSES: This meeting will be open to the public in-person at the Department of Energy (DOE) Information Center (address below) or virtually. To attend virtually, please send an email to: orssab@orem.doe.gov by no later than 5:00 p.m. ET on Wednesday, October 5, 2022.

The meeting will be held, strictly following COVID-19 precautionary measures, at: DOE Information Center, Office of Science and Technical Information, 1 Science.gov Way, Oak Ridge, Tennessee 37831.

Attendees should check the website listed below for any meeting format changes due to COVID-19 protocols.

FOR FURTHER INFORMATION CONTACT: Melyssa P. Noe, Alternate Deputy Designated Federal Officer, U.S. Department of Energy, Oak Ridge Office of Environmental Management (OREM), P.O. Box 2001, EM-942, Oak Ridge, TN 37831; Phone (865) 241-3315; or Email: Melyssa.Noe@orem.doe.gov. Or visit the website at https://www.energy.gov/orem/services/community-engagement/oak-ridge-site-specific-advisory-board.

SUPPLEMENTARY INFORMATION:

Purpose of the Board: The purpose of the Board is to make recommendations to DOE-EM and site management in the areas of environmental restoration, waste management, and related activities.

Tentative Agenda

• OREM Program Overview and Updates

• Process and Plan for Issue Groups Signup

• Work Plan Topics: Presentations by DOE, Tennessee Department of Environment and Conservation, and Environmental Protection Agency Liaisons

• Process and Plan for Issue Groups

• Public Comment Period

• Board Business:

Public Participation: The in-person/virtual hybrid meeting is open to the public. In addition to participation in the live public comment period, written statements may be filed with the Board via email either before or after the meeting. Public comments received by no later than 5:00 p.m. ET on Wednesday, October 5, 2022, will be read aloud during the meeting. Comments will be accepted after the meeting, by no later than 5:00 p.m. ET on Monday, October 17, 2022. Please submit comments to orssab@orem.doe.gov. The Deputy Designated Federal Officer is empowered to conduct the meeting in a fashion that will facilitate the orderly conduct of business. Individuals wishing to make live public comments will be provided a maximum of five minutes to present their comments. Individuals wishing to submit written public comments should email them as directed previously.

Minutes: Minutes will be available by emailing or calling Melyssa P. Noe at the email address and telephone number listed above. Minutes will also be available at the following website: https://www.energy.gov/orem/listings/oak-ridge-site-specific-advisory-board-meetings.

Signing Authority

This document of the Department of Energy was signed on September 12, 2022, by Shena Kennerly, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 13, 2022.
Treena V. Garrett,
Federal Register Liaison Officer, U.S. Department of Energy.

[FR Doc. 2022-20062 Filed 9-15-22; 8:45 am]

BILLING CODE 6450-01-P